DEPARTMENT OF HOMELAND SECURITY

U.S. Customs and Border Protection

19 CFR Part 102

[CBP Dec. 08-42]

Technical Corrections Relating to the Rules of Origin for Goods Imported Under the NAFTA and for Textile and Apparel Products

Correction

In rule document E8-25734 beginning on page 64518 in the issue of Thursday, October 30, 2008, make the following correction:

§102.21 [Corrected]

On page 64539, in §102.21, in the table, in the first column, in the first entry, “6209.20.1000....” should read “6209.20.1000-”.

[FR Doc. Z8-25734 Filed 11-6-08; 8:45 am]

BILLING CODE 1505-01-D